DEPARTMENT OF THE TREASURY

Internal Revenue Service

Open Meeting of Taxpayer Advocacy Panel, E-Filing Issue Committee

AGENCY: Internal Revenue Service (IRS), Treasury.

ACTION: Notice.

SUMMARY: A telephone meeting of the Taxpayer Advocacy Panel will be held on November 14, 2002.

DATES: The meeting will be held Thursday, November 14, 2002, from 3 p.m. to 5 p.m. Eastern Daylight Time.

FOR FURTHER INFORMATION CONTACT: Mary Ann Delzer at 1-888-912-1227, or 414-297-1604.

SUPPLEMENTARY INFORMATION: Notice is hereby given pursuant to section 10(a)(2) of the Federal Advisory Committee Act, 5 U.S.C. App. (1988) that an open meeting of the Taxpayer Advocacy Panel (TAP) will be held by telephone on Thursday, November 14, 2002, from 3 p.m. to 5 p.m. Eastern Daylight Time. The Taxpayer Advocacy Panel is soliciting public comment, ideas, and suggestions on improving customer service at the Internal Revenue Service. You can submit written comments to the panel by faxing to (414) 297-1623, or by mail to Taxpayer Advocacy Panel, Mail Stop 1006 MIL, 310 West Wisconsin Avenue, Milwaukee, WI 53203-2221. Public comments will also be welcome during the meeting. Please contact Mary Ann Delzer at 1-888-912-1227, or 414-297-1604 for dial-in information. The Agenda will include the following: Future meeting planning and discussion of E-file use by small businesses.

Note: Last minute changes to the agenda are possible and could prevent effective advance notice.

Dated: October 21, 2002.
Cathy Vanhorn,
Director, Communication and Liaison.

[FR Doc. 02-27636 Filed 10-29-02; 8:45 am]

BILLING CODE 4830-01-P